DEPARTMENT OF ENERGY

Federal Energy Regulatory Commission

Combined Notice of Filings #1

Take notice that the Commission received the following electric corporate filings:

Docket Numbers: EC14-110-000.

Applicants: Consumers Energy Company, AlphaGen Power LLC.

Description: Joint Application for Order Authorizing Acquisition and Dispostion of Jurisdictional Facilities Under Section 203 of the Federal Power Act of Consumers Energy Company, et al.

Filed Date: 7/1/14.

Accession Number: 20140701-5254.

Comments Due: 5 p.m. ET 7/22/14.

Take notice that the Commission received the following electric rate filings:

Docket Numbers: ER10-1093-003; ER10-1097-003.

Applicants: Delaware City Refining Company LLC.

Description: Triennial Market Power Analysis of Delaware City Refining Company LLC and PBF Power Marketing LLC.

Filed Date: 7/1/14.

Accession Number: 20140701-5256.

Comments Due: 5 p.m. ET 9/2/14.

Docket Numbers: ER11-1850-005; ER11-1847-005; ER11-1846-005; ER14-1360-001; ER11-2598-008; ER14-1359-001; ER12-1153-005; ER12-1152-005; ER13-1192-002; ER11-3623-002.

Applicants: Direct Energy Business, LLC, Direct Energy Marketing Inc., Direct Energy Services, LLC, Energetix DE, LLC, Gateway Energy Services Corporation, NYSEG Solutions, LLC, Bounce Energy NY, LLC, Bounce Energy PA, LLC, Direct Energy Business Marketing, LLC, Hess Small Business Services LLC.

Description: Northeast Region Triennial Report of the Direct Energy Sellers under ER11-1850, et al.

Filed Date: 7/1/14.

Accession Number: 20140701-5247.

Comments Due: 5 p.m. ET 9/2/14.

Docket Numbers: ER11-3876-010; ER10-2611-008.

Applicants: Cordova Energy Company LLC, Saranac Power Partners, L.P.

Description: Triennial Market Power Analysis Update in the Northeast Region of Cordova Energy Company LLC and Saranac Power Partners, L.P.

Filed Date: 6/30/14.

Accession Number: 20140630-5389.

Comments Due: 5 p.m. ET 8/29/14.

Docket Numbers: ER14-1775-002.

Applicants: SEP II, LLC.

Description: SEP II, LLC Market Based Rate Tariff Second Supplement to be effective 9/23/2014.

Filed Date: 7/3/14.

Accession Number: 20140703-5060.

Comments Due: 5 p.m. ET 7/24/14.

Docket Numbers: ER14-1864-001.

Applicants: Virginia Electric and Power Company

Description: Compliance Filing—Corrected .rft Tariff Record to May 2, 2014 Filing to be effective 5/3/2014.

Filed Date: 7/3/14.

Accession Number: 20140703-5000.

Comments Due: 5 p.m. ET 7/24/14.

Docket Numbers: ER14-2220-001.

Applicants: PJM Interconnection, L.L.C.

Description: Errata to Resubmit 2nd Rev Svd Agrmnts Nos. 2199, 2200, 2201, 2202 & SA No. 3873 to be effective 5/19/2014.

Filed Date: 7/3/14.

Accession Number: 20140703-5001.

Comments Due: 5 p.m. ET 7/24/14.

Docket Numbers: ER14-2353-000.

Applicants: Ohio Power Company, AEP Ohio Transmission Company, Inc., PJM Interconnection, L.L.C.

Description: AEP submits 42nd Revised Service Agreement No. 1336 to be effective 6/2/2014.

Filed Date: 7/2/14.

Accession Number: 20140702-5139.

Comments Due: 5 p.m. ET 7/23/14.

Docket Numbers: ER14-2354-000.

Applicants: Eagle Point Power Generation LLC.

Description: Revised Market-Based Rate Tariff to be effective 9/1/2014.

Filed Date: 7/2/14.

Accession Number: 20140702-5164.

Comments Due: 5 p.m. ET 7/23/14.

Docket Numbers: ER14-2355-000.

Applicants: The United Illuminating Company.

Description: UI CLP Pootatuck Engineering Agreement to be effective 7/2/2014.

Filed Date: 7/2/14.

Accession Number: 20140702-5176.

Comments Due: 5 p.m. ET 7/23/14.

Docket Numbers: ER14-2356-000.

Applicants: Duke Energy Carolinas, LLC.

Description: DEC-DEP As-Available Capacity Agreement to be effective 9/2/2014.

Filed Date: 7/3/14.

Accession Number: 20140703-5031.

Comments Due: 5 p.m. ET 7/24/14.

Docket Numbers: ER14-2357-000.

Applicants: Duke Energy Progress, Inc.

Description: As-Available Capacity Agreement Concurrence to be effective 9/2/2014.

Filed Date: 7/3/14.

Accession Number: 20140703-5032.

Comments Due: 5 p.m. ET 7/24/14.

Docket Numbers: ER14-2358-000.

Applicants: PJM Interconnection, L.L.C.

Description: Revisions to the OATT and OA due to PJM's Address Change to be effective 9/2/2014.

Filed Date: 7/3/14.

Accession Number: 20140703-5056.

Comments Due: 5 p.m. ET 7/24/14.

Docket Numbers: ER14-2359-000.

Applicants: PJM Interconnection, L.L.C.

Description: Revisions to the JOAs due to PJM's Address Change to be effective 9/2/2014.

Filed Date: 7/3/14.

Accession Number: 20140703-5057.

Comments Due: 5 p.m. ET 7/24/14.

Docket Numbers: ER14-2360-000.

Applicants: Dominion Energy Marketing, Inc.

Description: Compliance Filing—Cancel DEKI from Single MBR Tariff to be effective 7/4/2014.

Filed Date: 7/3/14.

Accession Number: 20140703-5073.

Comments Due: 5 p.m. ET 7/24/14.

Docket Numbers: ER14-2361-000.

Applicants: Sunwave Gas & Power New York, Inc.

Description: Sunwave GP NY MBR Filing to be effective 10/1/2014.

Filed Date: 7/3/14.

Accession Number: 20140703-5086.

Comments Due: 5 p.m. ET 7/24/14.

Take notice that the Commission received the following electric securities filings:

Docket Numbers: ES14-45-000.

Applicants: Northern Pass Transmission LLC.

Description: Application for Authority to Issue Debt Securities of Northern Pass Transmission LLC.

Filed Date: 7/2/14.

Accession Number: 20140702-5202.

Comments Due: 5 p.m. ET 7/23/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 3, 2014.
Nathaniel J. Davis, Sr.,
Deputy Secretary.

[FR Doc. 2014-16378 Filed 7-11-14; 8:45 am]

BILLING CODE 6717-01-P